DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Youth Volunteering & Civic Engagement Survey.

Form Number(s): YVCES-1L.

Agency Approval Number: None.

Type of Request: New collection.

Burden: 2,090 hours.

Number of Respondents: 3,300.

Avg Hours Per Response: 38 minutes.

Needs and Uses: Volunteerism is a vital aspect of American society that helps to sustain the values that frame American life and strengthen democracy. During his 2002 State of the Union address, President George W. Bush called upon every American to dedicate at least two years over the course of their lives to volunteering, and a vast network of government agencies, nonprofit organizations and associations, schools, volunteer centers, and community and corporate foundations work to promote volunteering and civic engagement across the country to help Americans meet this call.

In order to measure our progress in these efforts, it is essential to establish baseline data. Through the Youth Volunteering and Civic Engagement Study, we will have the capacity to obtain this baseline data, as well as ascertain progress through future data collections. This study intends to collect data on volunteering and civic engagement among American teenagers, 12 to 18 years of age, and disseminate this information among organizations and individuals that might utilize these data. We plan to collect baseline data in early 2005, and conduct data collections every two years after the baseline. This population was last studied in 1995 by Independent Sector, which released a report subsequent to the study.

The survey will generate information identified as priority data needed by federal agencies, states, nonprofit organizations and associations, schools, foundations, researchers, and other survey users. General categories of information to be collected will include educational attainment and general activities, participation in volunteer activities, attitudes toward and experiences with national and community service, and civic attitudes and behaviors. The survey will also collect information on types of organizations with which teens serve, the work teens perform at these organizations, the attitudes and motivations of teens that volunteer, and the reasons why some teens do not volunteer.

Affected Public: Individuals or households.

Frequency: Every two years.

Respondent's Obligation: Voluntary.

Legal Authority: Title 13 U.S.C., Section 8.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: October 28, 2004.
Madeleine Clayton,
Management Analyst, Office of the Chief Information Officer.

[FR Doc. 04-24489 Filed 11-2-04; 8:45 am]

BILLING CODE 3510-07-P